DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: May 9, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Arkansas

Installation Name: Leroy R. Pond USARC

LRA Name: City of Fayetteville

Point of Contact: Susan B. Thomas, Public Information and Policy Advisor, City of Fayetteville

Address: 113 W. Mountain, Fayetteville, AR 72701

Phone: (479) 575-8330

Installation Name: Rufus N. Garrett Jr. USARC

LRA Name: City of El Dorado Local Redevelopment Authority.

Point of Contact: Toby Anderson, Director, El Dorado Housing Authority

Address: P.O. 486, El Dorado, AR 71731

Phone: (870) 863-4070

California

Installation Name: Desiderio Hall US ARC

LRA Name: City of Pasadena

Point of Contact: Stephanie DeWolfe, Deputy Director, Planning & Development Department, City of Pasadena

Address: 175 North Garfield Avenue, 3rd Floor, Pasadena, CA 91101

Phone: (626) 744-7143

Connecticut

Installation Name: 1st LT John S. Turner USARC

LRA Name: Fairfield High Street Local Redevelopment Authority

Point of Contact: Thomas Bremer, Chair, Fairfield High Street Local Redevelopment Authority

Address: First Selectman's Office, 725 Old Post Road, Fairfield, CT 06824

Phone: (203) 256-3032

Installation Name: AMSA 69

LRA Name: Milford Local Redevelopment Authority

Point of Contact: Robert Gregory, Director of Community Development, City of Milford

Address: City Hall, 110 River Street, Milford, CT 06460

Phone: (203) 783-3230

Installation Name: Middletown USARC

LRA Name: Middletown Base Realignment and Closure Local Redevelopment Authority

Point of Contact: Geen Thazhampallath, Aide to the Mayor, City of Middletown

Address: 245 DeKoven Drive, Middletown, CT 06457

Phone: (860) 344-3401

Delaware

Installation Name: Maj. Robert Kirkwood Memorial USARC

LRA Name: Delaware Redevelopment Authority

Point of Contact: Tom McCarthy, Deputy Director, Delaware Economic Development Office

Address: Carvel State Office Building, 10th Floor, 820 N. French Street, Wilmington, DE 19801

Phone: (302) 577-8477

Hawaii

Installation Name: SFC Minoru Kunieda USARC

LRA Name: Kunieda ARC Local Redevelopment Authority

Point of Contact: William Takaba, Director of Finance, County of Hawaii

Address: 25 Aupuni Street, Hilo, HI 96720

Phone: (808) 961-8234

Illinois

Installation Name: Navy Reserve Center Forest Park

LRA Name: Village of Forest Park

Point of Contact: Anthony T. Calderone, Mayor of Forest Park

Address: 517 Desplaines Avenue, Forest Park, IL 60130

Phone: (708) 366-2323

Installation Name: PFC R.G. Wilson USARC

LRA Name: City of Marion

Point of Contact: Robert L. Butler, Mayor of Marion

Address: 1102 Tower Square Plaza, Marion, IL 62959

Phone: (618) 997-6281

Installation Name: SFC E.L. Copple USARC

LRA Name: City of Centralia

Point of Contact: Grant A. Kleinhenz, City Manager, City of Centralia

Address: 222 South Poplar, Centralia, IL 62801

Phone: (618) 533-7622

Installation Name: SSG R.E. Walton USARC

LRA Name: SSG R.E. Walton U.S. Army Reserve Center Local Redevelopment Authority

Point of Contact: William B. Winter, Police Chief, City of Fairfield

Address: 108 N.W. 7th Street, Fairfield, IL 62837

Phone: (618) 842-2153

Installation Name: Waukegan AFRC

LRA Name: Waukegan Federal Acquisition Committee

Point of Contact: Richard H. Hyde, Mayor of Waukegan

Address: 100 North Martin Luther King Jr. Avenue, Waukegan, IL 60085

Phone: (847) 599-2510

Kentucky

Installation Name: MG Benjamin J. Butler USARC

LRA Name: Louisville/Jefferson Redevelopment Authority

Point of Contact: J. David Morris, Director, Metro Development Authority

Address: 444 South Fifth Street, Suite 600, Louisville, KY 40202

Phone: (502) 574-4140

Installation Name: Paducah Memorial USARC

LRA Name: City of Paducah Local Redevelopment Authority

Point of Contact: David Frost, Grants Administrator, City Planning Department, City of Paducah

Address: P.O. Box 2267, 300 South 5th Street, Paducah, KY 42002-2267

Phone: (270) 444-8690

Installation Name: Paducah USARC #2

LRA Name: City of Paducah Local Redevelopment Authority

Point of Contact: David Frost, Grants Administrator, City Planning Department, City of Paducah

Address: P.O. Box 2267, 300 South 5th Street, Paducah, KY 42002-2267

Phone: (270) 444-8690

Minnesota

Installation Name: Cambridge Memorial USARC

LRA Name: City of Cambridge Local Redevelopment Authority

Point of Contact: Stoney Hiljus, City Administrator, City of Cambridge

Address: 300 Third Avenue Northeast, Cambridge, MN 55008

Phone: (763) 552-3201

Installation Name: Gen. Beebe USARC/ AMSA 111

LRA Name: Faribault Local Redevelopment Authority

Point of Contact: Terry J. Berg, Finance Director, City of Faribault

Address: 208 First Avenue, NW., Faribault, MN 55021-2884

Phone: (507) 333-0345

Mississippi

Installation Name: Naval Station Pascagoula—Main Base

LRA Name: Naval Station Pascagoula Local Redevelopment Planning Authority

Point of Contact: George L. Freeland Jr., Executive Director, Jackson County Economic Development Foundation, Inc.

Address: 3033 Pascagoula Street, P.O. Drawer 1558, Pascagoula, MS 39568

Phone: (228) 769-6263

Installation Name: Naval Station Pascagoula—Lakeside Manor

LRA Name: Naval Station Pascagoula Local Redevelopment Planning Authority

Point of Contact: George L. Freeland Jr., Executive Director, Jackson County Economic Development Foundation, Inc.

Address: 3033 Pascagoula Street, P.O. Drawer 1558, Pascagoula, MS 39568

Phone: (228) 769-6263

Installation Name: Naval Station Pascagoula—Sandhill Landing Family Housing Area

LRA Name: Naval Station Pascagoula Local Redevelopment Planning Authority

Point of Contact: George L. Freeland Jr., Executive Director, Jackson County Economic Development Foundation, Inc.

Address: 3033 Pascagoula Street, P.O. Drawer 1558, Pascagoula, MS 39568

Phone: (228) 769-6263

New Hampshire

Installation Name: Paul A. Doble USARC

LRA Name: City of Portsmouth

Point of Contact: John P. Bohenko, City Manager, City of Portsmouth

Address: 1 Junkins Avenue, Portsmouth, NH 03801

Phone: (603) 610-7202

New Jersey

Installation Name: Fort Monmouth

LRA Name: Fort Monmouth Economic Revitalization Planning Authority

Point of Contact: John G. Donnelly, Policy Advisor, Office of the Governor, State of New Jersey

Address: P.O. Box 001, Trenton, NJ 08625-0001

Phone: (609) 777-0348

Installation Name: Inspector-Instructor Facility, West Trenton

LRA Name: Ewing Township Local Redevelopment Authority

Point of Contact: Anthony P. Carabelli, Jr., Chief Aide to the Mayor, The Township of Ewing

Address: Municipal Complex, 2 Jake Garzio Drive, Ewing, NJ 08628

Phone: (609) 883-2900 ext. 7648

Installation Name: SFC Nelson V. Brittin USARC/S-S

LRA Name: Brittin USARC Local Redevelopment Authority

Point of Contact: Greg Schofield, Chairperson

Address: Municipal Building, 5605 N. Crescent Boulevard, Pennsauken, NJ 08110

Phone: (856) 665-1000

Installation Name: Sgt. J.W. Kilmer/AMSA 21

LRA Name: Edison Township Council

Point of Contact: Gaetano (Guy) Gaspar

Address: Township of Edison Municipal Complex, 100 Municipal Boulevard, Edison, NJ 08817

Phone: (732) 248-7371

New York

Installation Name: 2LT Glen Carpenter USARC

LRA Name: City of Poughkeepsie Industrial Development Agency

Point of Contact: Edmond G. Murphy, Development Director

Address: Municipal Building, P.O. Box 300, Poughkeepsie, NY 12602

Phone: (845) 451-4046

Installation Name: Amityville AFRC

LRA Name: Town Board of the Town of Babylon

Point of Contact: Ann Marie Jones, Director, Downtown Revitalization Task Force, Town of Babylon

Address: 200 East Sunrise Highway, Lindenhurst, NY 11757-2597

Phone: (631) 957-3013

Installation Name: Fort Tilden USARC

LRA Name: Fort Tilden Redevelopment Authority

Point of Contact: Irving Poy, Director, Planning & Development, Office of Queens Borough President

Address: 120-55 Queens Boulevard—Room 226, Kew Gardens, NY 11424

Phone: (718) 286-3000

Installation Name: Niagara Falls USARC/AMSA 76

LRA Name: Town of Niagara Local Redevelopment Authority

Point of Contact: Steven C. Richards, Town Supervisor

Address: 7105 Lockport Road, Town of Niagara, NY 14304

Phone: (716) 297-2150 ext. 136

Installation Name: Stewart Newburgh USARC

LRA Name: Town of New Windsor Local Redevelopment Authority

Point of Contact: George A. Green, Supervisor, Town of New Windsor

Address: 555 Union Avenue, New Windsor, NY 12553-6196

Phone: (845) 563-4610

North Carolina

Installation Name: Adrian B. Rhodes AFRC

LRA Name: City of Wilmington Local Redevelopment Authority

Point of Contact: Mark Johnson, Chief Code Enforcement Officer, City of Wilmington Community Services Department

Address: P.O. Box 1810, Wilmington, NC 28402-1810

Phone: (910) 341-5820

Installation Name: Jesse F. Niven Jr. USARC

LRA Name: City of Albemarle Local Redevelopment Authority

Point of Contact: Raymond I. Allen, City Manager, City of Albemarle

Address: P.O. Box 190, Albemarle, NC 28002-0190

Phone: (704) 984-9408

Ohio

Installation Name: Navy Marine Corps Reserve Center Akron

LRA Name: City of Akron

Point of Contact: Warren W. Woolford, Director of Planning & Urban Development, City of Akron

Address: Room 401 Municipal Building, 166 South High Street, Akron, OH 44308

Phone: (330) 375-2770

Installation Name: SFC M.L. Downs USARC/AMSA 58

LRA Name: City of Springfield Local Redevelopment Authority

Point of Contact: Heather Whitmore, Planning and Zoning Administrator, City of Springfield

Address: 76 East High Street, Springfield, OH 45502

Phone: (937) 324-7674

Installation Name: Whitehall Memorial USARC

LRA Name: Whitehall Local Redevelopment Authority

Point of Contact: Matthew Shad, Deputy for Administration and Development, City of Whitehall

Address: 360 South Yearling Road, Whitehall, OH 43213

Phone: (614) 338-3103

Oklahoma

Installation Name: Donald A. Roush USARC

LRA Name: Clinton Local Redevelopment Authority

Point of Contact: Grayson Bottom, City Manager, City of Clinton

Address: P.O. Box 1177, 415 Gary Boulevard, Clinton, OK 73601

Phone: (580) 323-0261

Installation Name: Navy Marine Corps Reserve Center Tulsa

LRA Name: AFRC Broken Arrow Local Redevelopment Authority

Point of Contact: David L. Wooden, Assistant City Manager, City of Broken Arrow

Address: 220 South First Street, Broken Arrow, OK 74013

Phone: (918) 259-2400 ext. 5332

Installation Name: Joe A. Smalley USARC

LRA Name: City of Norman Local Redevelopment Authority

Point of Contact: Linda Price, City of Norman

Address: P.O. Box 370, Nonnan, OK 73070

Phone: (405) 366-5439

Pennsylvania

Installation Name: Bloomsburg USARC

LRA Name: Scott Township Local Redevelopment Authority

Point of Contact: Eric C. Stahley, Secretary Treasurer, Scott Township

Address: Scott Township Municipal Building, 350 Tenny Street, Bloomsburg, PA 17815

Phone: (570) 784-9114

Installation Name: Charles E. Kelly Support Facility

LRA Name: Redevelopment Authority of Allegheny County

Point of Contact: J. Patrick Early, Redevelopment Authority of Allegheny County

Address: 425 Sixth Avenue, Suite 800, Pittsburgh, PA 15219

Phone: (412) 350-1061

Installation Name: Germantown Veterans Memorial USARC

LRA Name: City of Philadelphia

Point of Contact: Thomas A. Chapman, Acting Executive Director, Philadelphia City Planning Commission

Address: One Parkway, 13th Floor, 1515 Arch Street, Philadelphia, PA 19102

Phone: (215) 683-4615

Installation Name: James W. Reese USARC

LRA Name: Reese Local Redevelopment Authority

Point of Contact: Richard B. McClintock, Chairperson

Address: 224 Castle Avenue, Upland, PA 19015

Phone: (610) 874-7317

Installation Name: North Penn Memorial USARC

LRA Name: North Penn USARC Redevelopment Authority

Point of Contact: John R. Harris, Chairman, Board of Supervisors, Township of Worcester

Address: 1721 Valley Forge Road, P.O. Box 767, Worcester, PA 19490

Phone: (610) 584-1410

Installation Name: Philadelphia Memorial USARC

LRA Name: City of Philadelphia

Point of Contact: Thomas A. Chapman, Acting Executive Director, Philadelphia City Planning Commission

Address: One Parkway, 13th Floor, 1515 Arch Street, Philadelphia, PA 19102

Phone: (215) 683-4615

Installation Name: Wilson-Kramer USARC

LRA Name: Bethlehem Local Redevelopment Authority

Point of Contact: Tony Hanna, Director of Community and Economic Development, City of Bethlehem

Address: 10 East Church Street, Bethlehem, PA 18018

Phone: (610) 865-7085

Rhode Island

Installation Name: PT Lloyd S. Cooper III USARC

LRA Name: Warwick Local Redevelopment Agency

Point of Contact: Richard Crenca, Principal Planner, Warwick Planning Department, City of Warwick

Address: City Hall Annex, 3275 Post Road, Warwick, RI 02886

Phone: (401) 738-2000 ext. 6292

Installation Name: Quinta-Gamelin USARC

LRA Name: Town Council Local Redevelopment Authority

Point of Contact: Diane C. Mederos, Town Administrator, Town of Bristol

Address: Town Hall, 10 Court Street, Bristol, RI 02809

Phone: (401) 253-7000 ext. 133

Texas

Installation Name: Alice USARC

LRA Name: Alice Local Redevelopment Authority

Point of Contact: Pete Anaya, P.E., City Manager, City of Alice

Address: P.O. Box 3229, Alice, TX 78333

Phone: (361) 668-7210

Installation Name: Boswell Street USARC

LRA Name: San Antonio Local Redevelopment Authority

Point of Contact: Ramiro Cavazos, Director, City of San Antonio Economic Development Department

Address: P.O. Box 839966, San Antonio, TX 78283

Phone: (210) 207-8040

Installation Name: Callaghan Road USARC

LRA Name: San Antonio Local Redevelopment Authority

Point of Contact: Ramior Cavazos, Director, City of San Antonio Economic Development Department

Address: P.O. Box 839966, San Antonio, TX 78283

Phone: (210) 207-8040

Installation Name: Grimes Memorial USARC

LRA Name: Abilene Local Redevelopment Authority

Point of Contact: Larry D. Gilley, City Manager, City of Abilene

Address: P.O. Box 60, Abilene, TX 79604

Phone: (325) 676-6206

Installation Name: Houston USARC #2

LRA Name: City of Houston

Point of Contact: Forest R. “Bob” Christy, Director of Real Estate, Building Services

Department, City of Houston

Address: P.O. Box 1652, Houston, TX 77251

Phone: (713) 247-2639

Installation Name: Houston USARC #3

LRA Name: City of Houston

Point of Contact: Forest R. “Bob” Christy, Director of Real Estate, Building Services

Department, City of Houston

Address: P.O. Box 1652, Houston, TX 77251

Phone: (713) 247-2639

Installation Name: Jules E. Muchert USARC

LRA Name: City of Dallas

Point of Contact: Theresa O'Donnell, Director of Development Services, City of Dallas

Address: 1500 Marilla Street, 5DN, Dallas, TX 75201

Phone: (214) 670-4127

Installation Name: Naval Reserve Center Orange

LRA Name: Orange NRC Local Redevelopment Authority

Point of Contact: Gene Bouillion, Port Director & CEO, Orange County Navigation & Port District

Address: P.O. Box 2410, Orange, TX 77631

Phone: (409) 833-4363

Installation Name: Watts-Guillot USARC

LRA Name: Red River Redevelopment Authority

Point of Contact: Duane Lavery, Executive Director, Red River Redevelopment Authority

Address: 107 Chapel Lane, New Boston, TX 75570

Phone: (903) 223-8741

Installation Name: Wichita Falls USARC

LRA Name: City of Wichita Falls

Point of Contact: David A. Clark, Director of Community Development, City of Wichita Falls

Address: P.O. Box 1431, Wichita Falls, TX 76307

1300 Seventh Street, Wichita Falls, TX 76301

Phone: (940) 761-7451

Installation Name: William Herzog Memorial USARC

LRA Name: City of Dallas

Point of Contact: Theresa O'Donnell, Director of Development Services, City of Dallas

Address: 1500 Marilla Street, 5DN, Dallas, TX 75201

Phone: (214) 670-4127

Vermont

Installation Name: Chester Memorial USARC

LRA Name: Chester Local Redevelopment Authority

Point of Contact: Susan B. Spalding, Town Manager, Town of Chester

Address: P.O. Box 370, Chester, VT 05143

Phone: (802) 875-2173

Installation Name: Courcelle Brothers USARC

LRA Name: Rutland Redevelopment Authority

Point of Contact: Matthew T. Sternberg, Executive Director, Rutland Redevelopment Authority

Address: 103 Wales Street, Rutland, VT 05701

Phone: (802) 775-2910

Washington

Installation Name: PFC Daniel 1. Wagenaar USARC

LRA Name: Port of Pasco

Point of Contact: Randy Heyden, Port of Pasco

Address: 904 E. Ainsworth, Pasco, WA 99301

Phone: (509) 547-3378

West Virginia

Installation Name: 1LT Harry B. Colborn USARC

LRA Name: City of Fairmont Planning Commission

Point of Contact: Jay Rogers, Director of Planning and Development, City of Fairmont

Address: 200 Jackson Street, Fairmont, WV 26554

Phone: (304) 366-6211 ext. 308

Installation Name: Elkins USARC

LRA Name: Elkins-Randolph Local Redevelopment Authority

Point of Contact: Judy A. Guye, Chair, Elkins-Randolph Local Redevelopment Authority

Address: Elkins City Hall, 401 Davis Avenue, Elkins, WV 26241

Phone: (304) 636-1414

Puerto Rico

Installation Name: 1LT Paul Lavergné USARC

LRA Name: Bayamón Lavergné U.S. Army Reserve Center Local Redevelopment Authority

Point of Contact: Eileen Poueymirou Yunqué, Planning Director, Municipality of Bayamón

Address: P.O. Box 1588, Bayamón, PR 00961

Phone: (787) 787-0451

Dated: May 11, 2006.
L.M. Bynum,
OSD Federal Federal Register Liaison Officer, Department of Defense.

[FR Doc. 06-4599 Filed 5-16-06; 8:45 am]

BILLING CODE 5001-06-M